DEPARTMENT OF COMMERCE

Submission for OMB Review; Comment Request

The Department of Commerce has submitted to the Office of Management and Budget (OMB) for clearance the following proposal for collection of information under the provisions of the Paperwork Reduction Act (44 U.S.C. chapter 35).

Agency: National Oceanic and Atmospheric Administration (NOAA).

Title: Atlantic Highly Migratory Species Recreational Landings Reports.

Form Number(s): None.

OMB Approval Number: 0648-0328.

Type of Request: Regular submission.

Burden Hours: 1,403.

Number of Respondents: 10,968.

Average Hours Per Response: Landing cards, 10 minutes; telephone reports, 5 minutes; Maryland and North Carolina state weekly reports, 1 hour; and annual reports, 4 hours.

Needs and Uses: This information collection consists of a mandatory catch reporting program in the recreational fishery for Atlantic bluefin tuna, Atlantic swordfish, Atlantic blue marlin, Atlantic white marlin, and Atlantic sailfish. The anglers harvesting these species must report through a toll-free telephone system or an Internet site, or through landing card programs administered by some states. Catch monitoring and collection of catch and effort statistics in these fisheries are required under the Atlantic Tunas Convention Act and the Magnuson-Stevens Fishery Conservation and Management Act. The information collected through this program is essential for the United States to meet its reporting obligations to the International Commission for the Conservation of Atlantic Tunas (ICCAT) and to assure the harvest of these species remains within ICCAT required quotas and landings limits.

Affected Public: Individuals or households; business or other for-profit organizations; State, Local or Tribal Government.

Frequency: Weekly, annually, and on occasion.

Respondent's Obligation: Mandatory.

OMB Desk Officer: David Rostker, (202) 395-3897.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to David Rostker, OMB Desk Officer, FAX number (202) 395-7285, or David_Rostker@omb.eop.gov.

Dated: July 5, 2006.
Gwellnar Banks,
Management Analyst, Office of the Chief Information Officer.

[FR Doc. E6-10898 Filed 7-11-06; 8:45 am]

BILLING CODE 3510-22-P